DEPARTMENT OF VETERANS AFFAIRS

[OMB Control No. 2900-0747]

Proposed Information Collection (Application for Disability Compensation and Related Compensation Benefits) Activity: Comment Request

AGENCY: Veterans Benefits Administration, Department of Veterans Affairs.

ACTION: Notice.

SUMMARY: The Veterans Benefits Administration (VBA), Department of Veterans Affairs (VA), is announcing an opportunity for public comment on the proposed collection of certain information by the agency. Under the Paperwork Reduction Act (PRA) of 1995, Federal agencies are required to publish notice in the Federal Register concerning each proposed collection of information, including each proposed revision of a currently approved collection and allow 60 days for public comment in response to the notice.

DATES: Written comments and recommendations on the proposed collection of information should be received on or before August 26, 2014.

ADDRESSES: Submit written comments on the collection of information through the Federal Docket Management System (FDMS) at www.Regulations.gov; or to Nancy J. Kessinger, Veterans Benefits Administration (20M35), Department of Veterans Affairs, 810 Vermont Avenue NW., Washington, DC 20420; or email nancy.kessinger@va.gov. Please refer to “OMB Control No. 2900-0747” in any correspondence. During the comment period, comments may be viewed online at FDMS.

FOR FURTHER INFORMATION CONTACT: Nancy J. Kessinger at (202) 632-8924 or FAX (202) 632-8925.

SUPPLEMENTARY INFORMATION: Under the PRA of 1995 (Pub. L. 104-13; 44 U.S.C. 3501-3521), Federal agencies must obtain approval from the Office of Management and Budget (OMB) for each collection of information they conduct or sponsor. This request for comment is being made pursuant to Section 3506(c)(2)(A) of the PRA.

With respect to the following collection of information, VBA invites comments on: (1) Whether the proposed collection of information is necessary for the proper performance of VBA's functions, including whether the information will have practical utility; (2) the accuracy of VBA's estimate of the burden of the proposed collection of information; (3) ways to enhance the quality, utility, and clarity of the information to be collected; and (4) ways to minimize the burden of the collection of information on respondents, including through the use of automated collection techniques or the use of other forms of information technology.

Title: Application for Disability Compensation and Related Compensation Benefits, VA Form 21-526EZ.

OMB Control Number: 2900-0747.

Type of Review: Revision of a currently approved collection.

Abstract: Public Law 110-389, Section 221(a) directs the Department of Veterans Affairs (VA) to expeditiously process fully developed compensation claims after receipt of the claim. The law requires the claimant or the representative submit a certification in writing that it's signed and dated by the claimant and/or the representative stating that, as of such date, no additional information or evidence is available or needs to be submitted in order for the claim to be adjudicated.

Affected Public: Individuals and Households.

Estimated Annual Burden: 14,505 hours.

Estimated Average Burden per Respondent: 25 minutes.

Frequency of Response: One time.

Estimated Number of Respondents: 34,813.

Dated: June 23, 2014.
By direction of the Secretary.
Crystal Rennie,
Department Clearance Officer, Department of Veterans Affairs.

[FR Doc. 2014-15008 Filed 6-26-14; 8:45 am]

BILLING CODE 8320-01-P